DEPARTMENT OF LABOR

Employment and Training Administration

Agency Information Collection Activities; Comment Request; Required Elements of an Unemployment Insurance (UI) Reemployment Services and Eligibility Assessment (RESEA) Grant State Plan

ACTION: Notice.

SUMMARY: The Department of Labor's (DOL's), Employment and Training Administration (ETA) is soliciting comments concerning a proposed information collection request (ICR) titled, “Required Elements of an Unemployment Insurance (UI) Reemployment Services and Eligibility Assessment (RESEA) Grant State Plan.” This comment request is part of continuing Departmental efforts to reduce paperwork and respondent burden in accordance with the Paperwork Reduction Act of 1995 (PRA).

DATES: Consideration will be given to all written comments received by June 4, 2019.

ADDRESSES: A copy of this ICR with applicable supporting documentation, including a description of the likely respondents, proposed frequency of response, and estimated total burden, may be obtained free by contacting Lawrence Burns by telephone at 202-693-3141 (this is not a toll-free number), TTY 1-877-889-5627 (this is not a toll-free number), or by email at Burns.Lawrence@dol.gov.

Submit written comments about, or requests for a copy, of this ICR by mail or courier to the U.S. Department of Labor, Employment and Training Administration, Office of Unemployment Insurance Room S-4520, 200 Constitution Avenue NW, Washington, DC 20210, Attention: Lawrence Burns, by email at DOL-ETA-UI-FRN@dol.gov, or by Fax at 202-693-3975.

SUPPLEMENTARY INFORMATION: As part of continuing efforts to reduce paperwork and respondent burden, DOL conducts a pre-clearance consultation program to provide the general public and Federal agencies an opportunity to comment on proposed and/or continuing collections of information before submitting them to the Office of Management and Budget (OMB) for final approval. This program helps to ensure requested data is provided in the desired format, reporting burden (time and financial resources) is minimized, collection instruments are clearly understood, and the impact of collection requirements can be properly assessed.

The federal-state UI program is a required partner in the comprehensive, integrated workforce system. Individuals who have lost employment due to lack of suitable work and have earned sufficient wage credits may receive UI benefits if they meet initial and continuing eligibility requirements. Since fiscal year 2005, DOL and participating state UI agencies have been addressing individual reemployment needs of UI claimants and working to prevent and detect UI improper payments through the voluntary UI Reemployment and Eligibility Assessment (REA) program and, beginning in fiscal year 2015, through the voluntary RESEA program. Because there is strong evidence that these programs and service delivery strategies work, they have been a high priority for ETA.

On February 9, 2018, the President signed the Bipartisan Budget Act of 2018, Public Law 115-123 (BBA), which included amendments to the Social Security Act (SSA) that create a permanent authorization for the RESEA program. The RESEA provisions are contained in Section 30206 of the BBA, enacting new Section 306 of the SSA. The recently enacted Section 306, SSA, introduced several new program requirements, including the requirement that states must submit a state plan to be eligible for funding. Section 306(e), SSA, provides the authorization and specific requirements of the state plan including:

• Assurances and a description of how the state's program will provide proper notification to participating individuals of the program's eligibility conditions, requirements, and benefits;

• Assurance and a description of how the state's program will provide reasonable scheduling accommodations to maximize participation for eligible individuals;

• Assurances and a description of how the state's program will conform with the purposes of RESEA that include: improving employment outcome and reducing duration of receipt of unemployment compensation through employment; strengthening program integrity and reducing improper payments, promoting alignment with the vision of the Workforce Innovation and Opportunity Act; and establishing RESEA as an entry point to other workforce system partners;

• Assurances and a description of how the state's program will satisfy the requirement to use evidence-based standards including: a description of the evidence-based interventions the State plans to use to speed reemployment; an explanation of how such interventions are appropriate to the population served; and, if applicable, a description of the evaluation structure the state plans to use for interventions that do not meet evidence-based standards; and

• Information about reemployment activities and evaluations that the state conducted in the prior fiscal year including any data collected on characteristics of program participants, the number of weeks for which program participants receive unemployment compensation, and employment and other outcomes.

In addition to the statutorily required elements listed above, the requested ICR includes routine administrative and logistical elements that ETA identified as necessary for the grant review and approval process. These elements were previously collected under the ICR titled, “DOL Generic Solution for Solicitations for Grant Applications,” OMB Control No. 1225-0086, expiration date 05/31/2019. The consolidation of this information into the proposed annual plan reduced burden and streamlined the application process for states requesting RESEA funding. Section 306(e), SSA, authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be in writing to receive consideration, and they will be summarized and included in the request for OMB approval of the final ICR. In order to help ensure appropriate consideration, comments should mention Required Elements of an Unemployment Insurance (UI) Reemployment Services and Eligibility Assessment (RESEA) Grant State Plan, OMB Control Number 1205-0NEW.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: New.

Title of Collection: Required Elements of an Unemployment Insurance (UI) Reemployment Services and Eligibility Assessment (RESEA) Grant State Plan.

Form: RESEA Annual Report.

OMB Control Number: 1205-0NEW.

Affected Public: State Workforce Agencies.

Estimated Number of Respondents: 53.

Frequency: Annual.

Total Estimated Annual Responses: 53.

Estimated Average Time per Response: 40 hours.

Estimated Total Annual Burden Hours: 2,120 hours.

Total Estimated Annual Other Cost Burden: $0.

Authority: 44 U.S.C. 3506(c)(2)(A).

Molly E. Conway,
Acting Assistant Secretary for Employment and Training, Labor.

[FR Doc. 2019-05307 Filed 4-4-19; 8:45 am]

BILLING CODE 4510-FW-P